DEPARTMENT OF HEALTH AND HUMAN SERVICES

National Institutes of Health

Center for Scientific Review; Amended Notice of Meeting

Notice is hereby given of a change in the meeting of the Vector Biology Study Section, October 09, 2013, 8:30 a.m. to October 09, 2013, 06:00 p.m., The River Inn, 924 25th Street NW., Washington, DC 20037 which was published in the Federal Register on September 10, 2013, 78 FR 175 Pgs. 55266-55267.

The meeting will be held at National Institutes of Health, 6701 Rockledge Dr., Bethesda, MD 20892. The meeting will start on November 23, 2013 at 10:00 a.m. and end on November 23, 2013 at 6:00 p.m. The meeting is closed to the public.

Dated: October 25, 2013.
Anna Snouffer,
Deputy Director, Office of Federal Advisory Committee Policy.

[FR Doc. 2013-25777 Filed 10-29-13; 8:45 am]

BILLING CODE 4140-01-P